DEPARTMENT OF AGRICULTURE

Rural Business-Cooperative Service

Notice of Funding Availability for the Biorefinery Assistance Program

AGENCY: Rural Business-Cooperative Service, United States Department of Agriculture (USDA).

ACTION: Notice.

SUMMARY: This Notice announces the acceptance of applications for funds available under the Biorefinery Assistance Program (the “Program”) to provide guaranteed loans for the development and construction of commercial-scale biorefineries or for the retrofitting of existing facilities using eligible technology for the development of advanced biofuels. This Notice announces approximately $76 million in carry over budget authority that will support a program level of approximately $181 million.

DATES: Applications must be received in the USDA Rural Development National Office no later than 4:30 p.m. local time on January 30, 2014, to compete for program funds. Any application received after 4:30 p.m. local time on January 30, 2014, regardless of the application's postmark, will not be considered under this Notice.

ADDRESSES: Applications and forms may be obtained from:

• USDA, Rural Development, Business Programs, Energy Division, Attention: Biorefinery Assistance Program, 1400 Independence Avenue SW., STOP 3225, Washington, DC 20250-3225.

• Agency Web site: http://forms.sc.egov.usda.gov/eForms. Follow instructions for obtaining the application and forms.

Submit an original completed application with two copies to USDA's Rural Development National Office, Business Programs, Energy Division, Attention: Biorefinery Assistance Program, 1400 Independence Avenue SW., STOP 3225, Washington, DC 20250-3225.

FOR FURTHER INFORMATION CONTACT: Todd Hubbell, Rural Development, Business Programs, Energy Division, Biorefinery Assistance Program, USDA, 1400 Independence Avenue SW., Mail Stop 3225, Washington, DC 20250-3225. Telephone: 202-690-2516. Email: Todd.Hubbell@wdc.usda.gov.

SUPPLEMENTARY INFORMATION:

Paperwork Reduction Act

In accordance with the Paperwork Reduction Act of 1995, the information collection requirements associated with the Program, as covered in this Notice, has been approved by the Office of Management Budget (OMB) under OMB Control Number 0570-0065.

Overview

Federal Agency Name: Rural Business-Cooperative Service (an Agency of USDA in the Rural Development mission area).

Solicitation Opportunity Title: Biorefinery Assistance Program.

Announcement Type: Initial announcement. Catalog of Federal Domestic Assistance (CFDA) Number: The CFDA number for this Notice is 10.865.

Dates: Complete applications must be received in the USDA Rural Development National Office no later than 4:30 p.m. local time on January 30, 2014, in order to be considered for funds made available under this Notice. Any application received after 4:30 p.m. local time on January 30, 2014, regardless of the application's postmark, will not be considered.

Availability of Notice and Rule: This Notice and the interim rule for the Program are available on the USDA Rural Development Web site at http://www.rurdev.usda.gov/BCP_Biorefinery.html.

I. Funding Opportunity Description

A. Purpose of the Program. The purpose of this Program is to assist in the development and construction of commercial-scale biorefineries and the retrofitting of existing facilities using eligible technology for the development of advanced biofuels. The Agency will make guarantees available on loans for eligible projects that will provide for the development, construction, and/or retrofitting of commercial biorefineries using eligible technology, as defined in 7 CFR 4279.202(a).

B. Statutory Authority. This Program is authorized under 7 U.S.C. 8103. Regulations are contained in 7 CFR Part 4279, subpart C and in 7 CFR Part 4287, subpart D.

C. Definition of Terms. The definitions applicable to this Notice are published at 7 CFR 4279.202(a) and 7 CFR 4287.302.

For the purposes of this Notice, a local owner is defined as “An individual who owns any portion of an eligible advanced biofuel biorefinery and whose primary residence is located within 50 miles of the biorefinery.”

D. Application awards. The Agency will review, evaluate, and score applications received in response to this Notice based on the provisions found in 7 CFR 4279, subpart C and as indicated in this Notice. However, the Agency advises all interested parties that the applicant bears the burden in preparing and submitting an application in response to this Notice.

II. Award Information

A. Available funds. This Notice provides approximately $76 million in available budget authority that will support a program level of approximately $181 million. Program funds are subject to the characteristics of the loan applications received.

B. Type of Award. Guaranteed loan.

C. Approximate Number of Awards. To be determined.

D. Guarantee Loan Funding. The provisions of 7 CFR 4279.229 apply to this Notice. The borrower needs to provide the remaining funds from other non-Federal sources to complete the project.

E. Guarantee and Annual Renewal Fees. The guarantee and annual renewal fees specified in 7 CFR 4279.226 are applicable to this Notice.

F. Anticipated Award Date. To be determined.

III. Eligibility Information

A. Eligible Lenders. To be eligible for this Program, lenders must meet the eligibility requirements in 7 CFR 4279.202(c).

B. Eligible Borrowers. To be eligible for this Program, borrowers must meet the eligibility requirements in 7 CFR 4279.227.

C. Eligible Projects. To be eligible for this Program, projects must meet the eligibility requirements in 7 CFR 4279.228.

D. Application Completeness. Incomplete applications will be rejected. Lenders will be informed of the elements that made the application incomplete. If a resubmitted application is received in the USDA Rural Development's National Office by 4:30 p.m. January 30, 2014, the Agency will reconsider the application for available program funds.

IV. Fiscal Year 2013 Application and Submission Information

A. Application Submittal. The lender must submit a separate application for each project for which a loan guarantee is sought under this Notice. It is recommended that applicants refer to the application guide for this program, “Instructions for Application for Loan Guarantee—Section 9003 Biorefinery Assistance Loan Guarantees”, which can be found on the Agency's Web site at http://www.rurdev.usda.gov/BCP_Biorefinery.html.

B. Content and Form of Submission. Approved lenders must submit an Agency-approved application form for each loan guarantee sought under this Notice. Loan guarantee applications from approved lenders must contain the information specified in 7 CFR 4279.261(a) through (n), organized pursuant to a table of contents in a chapter format, and in 7 CFR 4279.261(o) as applicable.

C. Submission Dates and Times. The original complete application must be received by the USDA Rural Development National Office no later than 4:30 p.m. local time by January 30, 2014, regardless of the postmark date, in order to be considered for program funds.

D. Application Withdrawal. During the period between the submission of an application under this Notice and the execution of documents, the lender must notify the Agency, in writing, if the project is no longer viable or the borrower is no longer requesting financial assistance for the project. When the lender so notifies the Agency, the selection will be rescinded or the application withdrawn.

V. General Program Information

A. Loan Origination. Lenders seeking a loan guarantee under this Notice must comply with the provisions found in 7 CFR 4279.202.

B. Loan Processing. The Agency will process loans guaranteed under this Notice in accordance with the provisions specified in 7 CFR 4279.224 through 4279.290.

Refinancing, according to the provisions of 7 CFR 4279.228(g), is an eligible project cost under 7 CFR 4279.229(e)(7).

C. Evaluation of Applications and Awards. Awards under this Notice will be made on a competitive basis; submission of an application neither reserves funding nor ensures funding. The Agency will evaluate each complete application received in the USDA Rural Development National Office and will make awards using the provisions specified in 7 CFR 4279.265(a) through (f).

Due to limited funding, there will only be one round of competition.

In all instances in which a ranked application is not funded, the Agency will notify the lender in writing. If an application has been selected for funding, but has not been funded because additional information is needed, the Agency will notify the lender of what information is needed, including a timeframe for the lender to provide the information. If the lender does not provide the information within the specified timeframe, the Agency will remove the application from further consideration and will so notify the lender.

D. Guaranteed Loan Servicing. The Agency will service loans guaranteed under this Notice in accordance with the provisions specified in 7 CFR 4287.301 through 4287.307.

E. Transfers and Assumptions. At present, the transfer fee rate for all transfers and assumptions is 1 percent. The transfer fee will be equal to the transfer fee rate multiplied by the outstanding principal loan balance as of the date of the transfer multiplied by the percent of guarantee.

VI. Administration Information

A. Notifications. The Agency will notify, in writing, lenders whose applications have been selected for funding. If the Agency determines it is unable to guarantee the loan, the lender will be informed in writing. Such notification will include the reasons for denial of the guarantee.

B. Administrative and National Policy Requirements.

1. Review or Appeal Rights. A person may seek a review of an Agency decision or appeal to the National Appeals Division in accordance with 7 CFR 4279.16.

2. Exception Authority. The provisions specified in 7 CFR 4279.202(b) and 7 CFR 4287.303 apply to this Notice.

C. Environmental Review. The Agency has reviewed the types of applicant proposals that may qualify for assistance under this section and has determined, in accordance with 7 CFR Part 1940-G, that all proposals shall be reviewed as a Class II Environmental Assessment (EA) as the development of new and emerging technologies would not meet the classification of a Categorical Exclusion (CE) in accordance with 7 CFR 1940.310 or a Class I EA in accordance with 7 CFR 1940.311. Furthermore, if after Agency review of proposals the Agency has determined that the proposal could result in significant environmental impacts on the quality of the human environment, an Environmental Impact Statement may be required pursuant to 7 CFR 1940.313.

VII. Agency Contacts

For general questions about this Notice, please contact Todd Hubbell, Rural Development, Business Programs, Energy Division, Biorefinery Assistance Program, U.S. Department of Agriculture, 1400 Independence Avenue SW., Mail Stop 3225, Washington, DC, 20250-3225. Telephone: 202-690-2516. Email: Todd.Hubbell@wdc.usda.gov.

Nondiscrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing or have speech disabilities and you wish to file either an EEO or program complaint please contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: September 16, 2013.
Lillian E. Salerno,
Administrator, Rural Business—Cooperative Service.

[FR Doc. 2013-24081 Filed 10-1-13; 8:45 am]

BILLING CODE 3410-XY-P